DEPARTMENT OF AGRICULTURE

Foreign Agricultural Service

Notice of Request for Revision of a Currently Approved Information Collection

AGENCY: Foreign Agricultural Service, USDA.

ACTION: Notice and request for comments.

SUMMARY: In accordance with the Paperwork Reduction Act of 1995, this notice announces the intention of the Foreign Agricultural Service to request approval to revise the currently approved information collection for the USDA's Trade Missions and Trade Shows programs.

DATES: Comments on this notice must be received by August 19, 2024.

ADDRESSES: You may send comments, identified by the Office of Management and Budget (OMB) Control number 0551-0050, by any of the following methods:

• Federal eRulemaking Portal: http://www/regulations.gov. This portal enables respondents to enter short comments or attach a file containing lengthier comments.

• Email: TMSAdmin@usda.gov. Include OMB Control Number 0551-0050 in the subject line of the message.

• Mail, Courier, or Hand Delivery: Ryan Brewster, U.S. Department of Agriculture, Foreign Agricultural Service, 1400 Independence Avenue SW, Room 6085, Washington, DC 20250.

Instructions: All submissions must be identified by the OMB Control Number 0551-0050 and include the name of the agency, the Foreign Agricultural Service.

FOR FURTHER INFORMATION CONTACT: Ryan Brewster, 202-720-9084, TMSAdmin@usda.gov.

SUPPLEMENTARY INFORMATION:

Title: USDA Trade Missions and Trade Shows.

OMB Number: 0551-0050.

Expiration Date of Approval: August 31, 2025.

Type of Request: Revision of a currently approved information collection.

Abstract: USDA Trade Missions and Trade Shows is revising previously approved surveys in order to gather more useful information to further program objectives. The updated surveys have more focused questions to prompt responses that will be used to implement effective trade promotion events and ensure that program objectives are met. For example, the updated surveys will now ask fewer qualitative questions about how participants felt during the event and more questions relating to the type of organizations participating in the program (e.g., whether an organization is a member of a USDA Cooperator or State and Region Trade Group). The surveys will collect relevant data on each organization and their connection to USDA initiatives and programs.

Two of the five surveys undergoing revision are applications to gather essential information from respondents desiring to participate in USDA trade missions or virtual trade events to determine their eligibility to take part in the event. The remaining three are voluntary post-event digital surveys for participants to fill out after a USDA-endorsed trade show, trade mission, or virtual trade event to report their satisfaction with the event and actual on-site and projected sales data as a direct result of their participation in the program. Trade and sales data supplied on this form is strictly confidential and will not be shared with outside sources. Submitted information from these post-event surveys is used to measure the benefits of these activities for participants, participant satisfaction with the activities, and how activities can be improved. All revised surveys are expected to positively contribute to FAS' strategic goals related to promoting U.S. agricultural exports.

Estimate of Burden: The total number of questions in each revised survey have decreased, resulting in the public reporting burden for each respondent participating in USDA Trade Mission and Shows Events to be approximately 15 minutes for each survey.

Trade Missions Application

Type of Respondents: Government agencies, State Regional Trade Groups, State Departments of Agriculture, private companies, agricultural cooperatives, and export trade associations.

Estimated Number of Respondents: 500 per annum.

Estimated Number of Responses per Respondent: 1 per annum.

Estimated Total Annual Burden of Respondents: 125 hours per annum.

Trade Missions (Post-Event) Survey

Type of Respondents: Government agencies, State Regional Trade Groups, State Departments of Agriculture, private companies, agricultural cooperatives, and export trade associations.

Estimated Number of Respondents: 130 per annum.

Estimated Number of Responses per Respondent: 2 per annum.

Estimated Total Annual Burden of Respondents: 65 hours per annum.

USDA-Endorsed Trade Shows (Post-Event) Survey

Type of Respondents: Government agencies, State Regional Trade Groups, State Departments of Agriculture, private companies, agricultural cooperatives, and export trade associations.

Estimated Number of Respondents: 1,000.

Estimated Number of Responses per Respondent: 1 per annum.

Estimated Total Annual Burden of Respondents: 250 hours.

Virtual Trade Event Application

Type of Respondents: private companies, agricultural cooperatives, and export trade associations.

Estimated Number of Respondents: 100 per annum.

Estimated Number of Responses per Respondent: 1 per annum.

Estimated Total Annual Burden of Respondents: 25 hours per annum.

Virtual Trade Events (Post-Event) Survey

Type of Respondents: private companies agricultural cooperatives, and export trade associations.

Estimated Number of Respondents: 60 per annum.

Estimated Number of Responses per Respondent: 2 per annum.

Estimated Total Annual Burden of Respondents: 30 hours per annum.

Copies of this information collection may be obtained from Kenneth Vernon, the Agency Information Collection Coordinator, at Kenneth.Vernon@usda.gov.

Requests for Comments: Send comments regarding (a) whether the information is necessary for the proper performance of the functions of the agency, including whether the information will have practical utility; (b) the accuracy of the agency's estimate of the burden of the collection of information including validity of the methodology and assumption used; (c) ways to enhance the quality, utility, and clarity of the information to be collected; and (d) ways to minimize the burden of the collection of information on those who are to respond, including through the use of automated, electronic, mechanical, or other technological collection techniques, or other forms of information technology.

All comments received in response to this notice, including names and addresses when provided, will be a matter of public record. Comments will be available without change, including any personal information provided, for inspection online at http://www.regulations.gov and at the mail address listed above between 8:00 a.m. and 4:30 p.m., Monday through Friday, except holidays.

Comments will be summarized and included in the submission for OMB approval.

Persons with disabilities who require an alternative means for communication of information (Braille, large print, audiotape, etc.) should contact RARequest@usda.gov.

Daniel Whitley,
Administrator, Foreign Agricultural Service.

[FR Doc. 2024-13502 Filed 6-18-24; 8:45 am]

BILLING CODE 3410-10-P